DEPARTMENT OF ENERGY

Federal Energy Regulatory Commission

[Project No. 96-048]

Pacific Gas and Electric Company; Notice of Reasonable Period of Time for Water Quality Certification Application

On September 17, 2024, the California State Water Resources Control Board (California SWRCB) submitted to the Federal Energy Regulatory Commission (Commission) notice that it received a request for a Clean Water Act section 401(a)(1) water quality certification as defined in 40 CFR 121.5, from Pacific Gas and Electric Company, in conjunction with the above captioned project, on August 22, 2024. Pursuant to section 4.34(b)(5) of the Commission's regulations,¹ we hereby notify California SWRCB of the following:

¹ 18 CFR 4.34(b)(5).

Date of Receipt of the Certification Request: August 22, 2024.

Reasonable Period of Time to Act on the Certification Request: One year, August 22, 2025.

If California SWRCB fails or refuses to act on the water quality certification request on or before the above date, then the certifying authority is deemed waived pursuant to section 401(a)(1) of the Clean Water Act, 33 U.S.C. 1341(a)(1).

Dated: September 24, 2024.
Debbie-Anne A. Reese,
Acting Secretary.

[FR Doc. 2024-22423 Filed 9-30-24; 8:45 am]

BILLING CODE 6717-01-P